SMALL BUSINESS ADMINISTRATION

[License No. 01/01-0285]

Capital Resource Company of Connecticut; Notice of Surrender of License

Notice is hereby given that Capital Resource Company of Connecticut (“CRC”), Two Bridgewater Road, Farmington, Connecticut 06032-2256, has surrendered its license to operate as a small business investment company under the Small Business Investment Act of 1958, as amended (the “Act”). CRC was licensed by the U.S. Small Business Administration on March 23, 1977.

Under the authority vested by the Act and pursuant to the regulations promulgated thereunder, the surrender of the license was accepted on April 5, 2000, and accordingly, all rights, privileges, and franchises derived therefrom have been terminated.

(Catalog of Federal Domestic Assistance Program No. 59.011, Small Business Investment Companies)
Dated: May 23, 2000.
Don A. Christensen,
Associate Administrator for Investment.

[FR Doc. 00-13600 Filed 5-31-00; 8:45 am]

BILLING CODE 8025-01-P